ENVIRONMENTAL PROTECTION AGENCY

40 CFR Part 52

[IL197-1a; FRL-6970-6]

Approval and Promulgation of State Implementation Plans; Illinois

AGENCY: Environmental Protection Agency (USEPA).

ACTION: Direct final rule.

SUMMARY: The United States Environmental Protection Agency (USEPA) is approving a negative declaration submitted by the State of Illinois which indicates there is no need for regulations covering the industrial wastewater category in the Chicago ozone nonattainment area. The Chicago ozone nonattainment area includes Cook County, DuPage County, Aux Sable and Goose Lake Townships in Grundy County, Kane County, Oswego Township in Kendall County, Lake County, McHenry County and Will County. The State's negative declaration regarding industrial wastewater category sources was submitted to USEPA in a letter dated December 23, 1999.

DATES: This rule is effective on June 26, 2001, unless USEPA receives adverse written comments by May 29, 2001. If adverse comment is received, USEPA will publish a timely withdrawal of the rule in the Federal Register and inform the public that the rule will not take effect.

ADDRESSES: Written comments should be sent to: J. Elmer Bortzer, Chief, Regulation Development Section, Air Programs Branch (AR-18J), U.S. Environmental Protection Agency, 77 West Jackson Boulevard, Chicago, Illinois 60604.

A copy of the negative declaration is available for inspection at the U.S. Environmental Protection Agency, Region 5, Air and Radiation Division, 77 West Jackson Boulevard, Chicago, Illinois 60604. (Please telephone Randolph O. Cano at (312) 886-6036 before visiting the Region 5 Office.)

FOR FURTHER INFORMATION CONTACT: Randolph O. Cano, Environmental Protection Specialist, Regulation Development Section, Air Programs Branch (AR-18J), USEPA, Region 5, Chicago, Illinois 60604,(312) 886-6036.

SUPPLEMENTARY INFORMATION: Throughout this document wherever “we”, “us”, or “our” is used we mean USEPA.

Table of Contents

I. What Is the background for this action?

II. Negative declarations and their justification.

III. USEPA review of Illinois' negative declaration.

IV. Administrative requirements.

I. What Is the Background for This Action?

Under the Clean Air Act (Act), as amended in 1977, ozone nonattainment areas are required to adopt emission controls reflective of reasonably available control technology (RACT) for sources of volatile organic compound (VOC) emissions. USEPA issued three sets of control technique guidelines (CTGs) documents, establishing a “presumptive norm” for RACT for various categories of VOC sources. The three sets of CTGs were (1) Group I—issued before January 1978 (15 CTGs); (2) Group II—issued in 1978 (9 CTGs); and (3) Group III—issued in the early 1980's (5 CTGs). Those sources not covered by a CTG are called non-CTG sources. USEPA determined that an area's State Implementation Plan (SIP) approved attainment date established which RACT rules the area needed to adopt and implement. In those areas where the State sought an extension of the attainment date under section 172(a)(2) to as late as December 31, 1987, RACT was required for all CTG sources and for all major (100 tons per year or more of VOC emissions under the pre-amended Act) non-CTG sources. Illinois sought and received such an extension for the Chicago area.

Section 182(b)(2) of the Act as amended in 1990 requires States to adopt RACT rules for all areas designated nonattainment for ozone and classified as moderate or above. There are three parts to the section 182(b)(2) RACT requirement: (1) RACT for sources covered by an existing CTG—i.e., a CTG issued prior to the enactment of the amended Act of 1990; (2) RACT for sources covered by a post-enactment CTG; and, (3) all major sources not covered by a CTG. These section 182(b)(2) RACT requirements are referred to as the RACT “catch-up” requirements.

Section 183 of the amended Act requires USEPA to issue CTGs for 13 source categories by November 15, 1993. A CTG was published by this date for the following source categories—Synthetic Organic Chemical Manufacturing Industry (SOCMI) Reactors and Distillation, aerospace manufacturing coating operation, shipbuilding and ship repair coating operations, and wood furniture coating operations; however, the CTGs for the remaining source categories have not been completed. The amended Act requires States to submit rules for sources covered by a post-enactment CTG in accordance with a schedule specified in a CTG document.

The USEPA created a CTG document as Appendix E to the General Preamble for the Implementation of Title I of the Clean Air Act Amendments of 1990. (57 FR 18070, 18077, April 28, 1992). In Appendix E, USEPA interpreted the Act to allow a State to submit a non-CTG rule by November 15, 1992, or to defer submittal of a RACT rule for sources that the State anticipated would be covered by a post-enactment CTG, based on the list of CTGs USEPA expected to issue to meet the requirement in section 183. Appendix E states that if USEPA fails to issue a CTG by November 15, 1993 (USEPA failed to issue a CTG by November 15, 1998 for 9 source categories), the responsibility shifts to the State to submit a non-CTG RACT rule for those sources by November 15, 1994. In accordance with section 182(b)(2), implementation of that RACT rule should occur by May 31, 1995.

II. Negative Declarations and Their Justification

The USEPA does not require States to develop plans or regulations to control emissions from sources which are not present in the nonattainment area. If it is thought that this might be the case, the State carefully examines its emissions inventory and operating permits before initiating the planning and regulation development process. If a careful examination of the emissions inventory finds no sources for a particular source category, then the State prepares and submits to USEPA a negative declaration stating there are no sources in the nonattainment area for that source category in lieu of submitting a control strategy.

On December 23, 1999, the State of Illinois submitted to USEPA a negative declaration regarding the need for a regulation covering the industrial wastewater category in the Chicago ozone non-attainment area. The State indicated that in making this determination, the Illinois Environmental Protection Agency (Illinois EPA) conducted a search of its 1996 Chicago inventory for any major source potentially subject to USEPA's draft Control Techniques Guideline (CTG) document for the “Control of Volatile Organic Material Emissions from Industrial Wastewater” [EPA-453/D-93-056, September 1992]. The search included the following industries: petroleum refineries, the synthetic organic chemical manufacturing industry (SOCMI), organic chemicals, plastics and synthetic fibers, pesticides, pharmaceuticals, and hazardous waste treatment, storage, and disposal facilities. The Illinois EPA found only three sources with industrial wastewater operations that are major sources, i.e., with potential to emit more than 25 tons per year of industrial wastewater emissions. These three facilities are Permcor, Mobile Joliet Refining Corporation (Mobile) and Amoco Chemical Corporation (Amoco). Permcor is located in Cook County, and Mobile and Amoco are located in Will County.

Permcor and Mobil's wastewater operation emissions are subject to the Federal rule covering benzene waste operations applicable to petroleum refineries, the Benzene National Emissions Standards for Hazardous Air Pollutants (Benzene NESHAP) which was promulgated on January 7, 1993 (58 FR 3072) and codified at 40 CFR part 61, subpart FF. Permcor and Mobile are also subject to the wastewater operation control requirements under petroleum refinery NESHAP which was promulgated on August 18, 1995 (60 FR 43244) and codified at 40 CFR part 61, subpart CC. If benzene applicability cutoffs are exceeded, the emission control requirements of these regulations are at least as stringent as the requirements suggested by the draft CTG as RACT.

Amoco Chemical is a facility whose wastewater operations are covered by Subpart G of the Hazardous Organic NESHAP (HON) for SOCMI sources. The Federal regulation was promulgated on April 22, 1994 (59 FR 19402), and contains wastewater provisions that apply to the facility's process and maintenance wastewater from the point of generation to the treatment operations. Similar to those standards applicable to petroleum refineries, the SOCMI HON's emission control requirements are at least as stringent as the requirements suggested by the draft CTG.

In addition to the above indicated Federal standards, Illinois has generic RACT regulations that cover major sources with maximum theoretical emissions of 25 tons per year or greater and not already covered by a specific RACT regulation. Specifically, 35 Illinois Administrative Code (35 Ill. Adm. Code) Part 218, Subpart TT does not apply to any such sources of wastewater collection and treatment. Other existing regulations applicable to wastewater collection operations are 35 Ill. Adm. Code Part 218, Subpart G, which covers any emission unit that emits photochemically reactive material to the atmosphere and 35 Ill. Adm. Code Part 218.443, which specifically regulates oil and water separators from petroleum refineries.

Illinois issued operating permits for the sources listed above which contain permit conditions that reflect the applicability cutoffs and emissions standards for wastewater collection and treatment operations in the above mentioned NESHAP. As a result of these NESHAP requirements, Amoco and Mobile are adequately controlled. Permcor has been shut down since early in 2001.

III. USEPA Review of Illinois' Negative Declaration.

USEPA has examined the State's negative declaration regarding the lack of need for a regulation controlling emissions from industrial wastewater located in the Chicago ozone nonattainment area. USEPA agrees there are no unregulated industrial wastewater sources in the Chicago ozone nonattainment area which would require the adoption of rules to control this source category. If a new source chooses to locate in this area, they would be required to comply with new source review requirements.

USEPA is publishing this action without prior proposal because USEPA views this as a noncontroversial revision and anticipates no adverse comments. However, in a separate document in this Federal Register publication, USEPA is proposing to approve the State Plan should adverse written comments be filed. This action will be effective without further notice unless USEPA receives relevant adverse written comment by May 29, 2001. Should USEPA receive such comments, it will publish a final rule informing the public that this action will not take effect. Any parties interested in commenting on this action should do so at this time. If no such comments are received, the public is advised that this action will be effective on June 26, 2001.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, USEPA's role is to approve state choices, provided that they meet the criteria of the Clean Air Act. In this context, in the absence of a prior existing requirement for the State to use voluntary consensus standards (VCS), USEPA has no authority to disapprove a SIP submission for failure to use VCS. It would thus be inconsistent with applicable law for USEPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, USEPA has taken the necessary steps to eliminate drafting errors and ambiguity, minimize potential litigation, and provide a clear legal standard for affected conduct. USEPA has complied with Executive Order 12630 (53 FR 8859, March 15, 1988) by examining the takings implications of the rule in accordance with the Attorney General's Supplemental Guidelines for the Evaluation of Risk and Avoidance of Unanticipated Takings issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. USEPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective June 26, 2001 unless USEPA receives adverse written comments by May 29, 2001.

Under section 307(b)(1) of the Clean Air Act, petitions for judicial review of this action must be filed in the United States Court of Appeals for the appropriate circuit by June 26, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Administrative practice and procedure, Air pollution control, Hydrocarbons, Intergovernmental relations, Ozone, Reporting and recordkeeping requirements, Volatile organic compounds.

Dated: April 17, 2001.
David A. Ullrich
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart O—Illinois

§ 2. Section 52.726 is amended by adding paragraph (aa) to read as follows:

§ 52.726 Control strategy: Ozone.

* * * * *

(aa) Negative declaration—Industrial wastewater category. On December 23, 1999, the State of Illinois certified to the satisfaction of the United States Environmental Protection Agency that no major sources categorized as part of the Industrial Wastewater Category are located in the Chicago ozone nonattainment area. The Chicago ozone nonattainment area includes Cook County, DuPage County, Aux Sable and Goose Lake Townships in Grundy County, Kane County, Oswego Township in Kendall County, Lake County, McHenry County and Will County.

[FR Doc. 01-10427 Filed 4-26-01; 8:45 am]

BILLING CODE 6560-50-P